DEPARTMENT OF AGRICULTURE

Animal and Plant Health Inspection Service

7 CFR Part 319

[Docket No. APHIS-2016-0022]

RIN 0579-AE29

Importation of Hass Avocados From Colombia

AGENCY: Animal and Plant Health Inspection Service, USDA.

ACTION: Proposed rule; extension of comment period.

SUMMARY: We are extending the comment period for a proposed rule to allow the importation of Hass avocados from Colombia into the continental United States. This action will allow interested persons additional time to prepare and submit comments.

DATES: The comment period for the proposed rule published on October 27, 2016 (81 FR 74722) is extended. We will consider all comments that we receive on or before March 20, 2017.

ADDRESSES: You may submit comments by either of the following methods:

• Federal eRulemaking Portal: Go to http://www.regulations.gov/#!docketDetail;D=APHIS-2016-0022.

• Postal Mail/Commercial Delivery: Send your comments to Docket No. APHIS-2016-0022, Regulatory Analysis and Development, PPD, APHIS, Station 3A-03.8, 4700 River Road, Unit 118, Riverdale, MD 20737-1238.

Supporting documents and any comments we receive on this docket may be viewed at http://www.regulations.gov/#!docketDetail;D=APHIS-2016-0022 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David B. Lamb, Senior Regulatory Policy Specialist, USDA/APHIS/PPQ, 4700 River Road, Unit 133, Riverdale, MD 20737-1236; (301) 851-2103; David.B.Lamb@aphis.usda.gov.

SUPPLEMENTARY INFORMATION: On October 27, 2016, we published in the Federal Register (81 FR 74722-74727, Docket No. APHIS-2016-0022) a proposed rule to authorize the importation of Hass avocados from Colombia into the continental United States.

Comments on the proposed rule were required to be received on or before December 27, 2016. On January 17, 2017, we published in the Federal Register (82 FR 4798) a notice of reopening of the comment period for an additional 30 days. Comments were required to be received by February 16, 2017.

We are extending the comment period on Docket No. APHIS-2016-0022 for an additional 30 days. This action will allow interested persons additional time to prepare and submit comments.

Authority: 7 U.S.C. 450, 7701-7772, and 7781-7786; 21 U.S.C. 136 and 136a; 7 CFR 2.22, 2.80, and 371.3.

Done in Washington, DC, this 6th day of February 2017.
Michael C. Gregoire,
Acting Administrator, Animal and Plant Health Inspection Service.

[FR Doc. 2017-02781 Filed 2-9-17; 8:45 am]

BILLING CODE 3410-34-P